DEPARTMENT OF HOMELAND SECURITY

U.S. Customs and Border Protection

DEPARTMENT OF THE TREASURY

19 CFR Parts 10, 113, and 163

[USCBP-2024-0017; CBP Dec. 25-12]

RIN 1685-AA00 (Formerly RIN 1515-AE65)

Agreement Between the United States of America, the United Mexican States, and Canada (USMCA) Implementing Regulations Related to Textile and Apparel Goods, Automotive Goods, and Other USMCA Provisions; Correcting Amendments

AGENCY: U.S. Customs and Border Protection, Department of Homeland Security; Department of the Treasury.

ACTION: Correcting amendments.

SUMMARY: On January 17, 2025, U.S. Customs and Border Protection (CBP) published an interim final rule in the Federal Register amending the CBP regulations to add implementing regulations for the preferential tariff treatment and related customs provisions of the Agreement Between the United States of America, the United Mexican States, and Canada (USMCA) related to general definitions, drawback and duty-deferral programs, textile and apparel goods, and automotive goods, among others. Errant amendatory instructions resulted in the inadvertent omission of two conforming amendments and the removal of two paragraphs that were unrelated to the USMCA amendments. This action corrects those errors.

DATES: This document is effective on September 8, 2025.

FOR FURTHER INFORMATION CONTACT:

Operational Aspects and Audit Aspects: Lea-Ann B. Bigelow, Director, Textiles and Trade Agreements Division, Trade Policy and Programs, Office of Trade, U.S. Customs and Border Protection, (202) 339-7371 or FTA@cbp.dhs.gov.

Legal Aspects: Yuliya A. Gulis, Director, Commercial and Trade Facilitation Division, Regulations and Rulings, Office of Trade, U.S. Customs and Border Protection, (202) 325-0042 or yuliya.a.gulis@cbp.dhs.gov.

SUPPLEMENTARY INFORMATION:

I. Background

On January 17, 2025, U.S. Customs and Border Protection (CBP) published an interim final rule (IFR) in the Federal Register (90 FR 6456) titled “Agreement Between the United States of America, the United Mexican States, and Canada (USMCA) Implementing Regulations Related to Textile and Apparel Goods, Automotive Goods, and Other USMCA Provisions” (the “USMCA IFR”), which amended the CBP regulations to add implementing regulations for the preferential tariff treatment and related customs provisions of the USMCA with respect to general definitions, drawback and duty-deferral programs, textile and apparel goods, and automotive goods. The IFR also amended the regulations to implement the temporary admission of goods, to delineate recordkeeping and protest requirements, to clarify the fee provisions, and to make conforming amendments.

The USMCA IFR became effective on March 18, 2025. Compliance with the labor value content (LVC) certification, steel purchasing certification, and aluminum purchasing certification provisions in §§ 182.95, 182.96, and 182.97 of title 19 of the Code of Federal Regulations (CFR) (19 CFR 182.95, 182.96, and 182.97) is only required for those vehicle certifications submitted to CBP on or after May 19, 2025. The IFR's comment period closed on March 18, 2025. CBP will publish a final rule in the Federal Register addressing the public comments received from the IFRs ¹ implementing the USMCA at a later date.

¹ CBP previously published two other IFRs addressing USMCA. On July 1, 2020, CBP published an IFR, entitled “Implementation of the Agreement Between the United States of America, the United Mexican States, and Canada (USMCA) Uniform Regulations Regarding Rules of Origin,” (CBP Dec. 20-11) in the Federal Register (85 FR 39690). CBP also published an IFR on July 6, 2021, entitled, “Agreement Between the United States of America, the United Mexican States, and Canada (USMCA) Implementing Regulations Related to the Marking Rules, Tariff-rate Quotas, and Other USMCA Provisions,” (CBP Dec. 21-10) in the Federal Register (86 FR 35566), which was effective on July 1, 2021. Any final rule published at a later date would address the public comments received from all three of these IFRs.

The USMCA IFR inadvertently omitted one conforming amendment, removed two paragraphs unrelated to the USMCA amendments, and contained an inaccurate amendatory instruction. Specifically, the amendatory instructions for 19 CFR 10.224 were inadvertently omitted from the IFR. CBP inadvertently removed two paragraphs unrelated to the USMCA from 19 CFR 10.237 and 113.62. Finally, an inaccurate amendatory instruction resulted in the omission of an intended amendment to the Appendix to 19 CFR part 163 that was addressed and explained within the preamble but not added to the regulation. This document amends these four sections of the CBP regulations to correct these discrepancies and omissions.

II. Correcting Amendments

Section 10.224

The implementing legislation for the Caribbean Basin Economic Recovery Act (CBERA), as amended by the United States-Caribbean Basin Trade Partnership Act (CBTPA), trade preference program contained the North American Free Trade Agreement (NAFTA) rules of origin. See 19 U.S.C. 2702. Accordingly, the implementing regulations for these programs in 19 CFR part 10, which followed the statutory language, contain numerous references to NAFTA.

On July 1, 2020, section 601 of the United States-Mexico-Canada Agreement Implementation Act (USMCA Implementation Act), Public Law 116-113, 134 Stat. 11 (19 U.S.C. Chapter 29) repealed the NAFTA Implementation Act and references to NAFTA became outdated. On December 27, 2020, the Consolidated Appropriations Act, 2021, Public Law 116-260, was enacted with Title VI of the Act containing technical corrections to other laws, including the CBTPA, to correct the relevant trade preference programs using the NAFTA rules of origin. With the repeal of the NAFTA Implementation Act, section 602(a) and (b) of Title VI of the Appropriations Act amended these other laws to include the USMCA rules of origin.

Subpart E of 19 CFR part 10 contains the textile and apparel articles and the non-textile articles under the CBTPA provisions (see 19 CFR 10.221-10.237). Accordingly, CBP is amending § 10.224(b) to replace the current reference to NAFTA with a reference to the USMCA in accordance with the technical corrections made to 19 U.S.C. 2702. While the USMCA IFR amended several 19 CFR part 10 provisions of the CBTPA, including § 10.224(c)(12), the amendment to § 10.224(b) was inadvertently not included. Thus, CBP is including the minor, non-substantive amendment to § 10.224(b) in this document.

Sections 10.237 and 113.62

Due to an inadvertent error in the amendatory instructions in the USMCA IFR, 19 CFR 10.237 and 113.62 were not revised as CBP intended. As described in the USMCA IFR, § 10.237(b) was amended to replace the current references to NAFTA with references to the USMCA in accordance with the technical corrections made to 19 U.S.C. 2702. However, the amendatory instructions in the USMCA IFR revised § 10.237(b) while only including revisions to (b) and (b)(1). Thus, CBP inadvertently omitted the existing § 10.237(b)(2), (3), and (4). Accordingly, CBP is amending § 10.237(b) in this document to add paragraphs (b)(2), (3), and (4) to correct this inadvertent omission. This amendment is non-substantive as it reinstates the previous regulatory language that existed prior to the USMCA IFR's effective date, with only one minor nomenclature change in § 10.237(b)(4) changing “Customs” to “CBP”.

Similarly, the amendatory instructions in the USMCA IFR revised § 113.62(a)(1) while only including revisions to paragraph (a)(1) when adding the appropriate cross-references to the USMCA drawback and duty-deferral program provisions alongside existing references to NAFTA duty-deferral and drawback provisions. Thus, CBP inadvertently omitted §§ 113.62(a)(1)(i) and (ii). Accordingly, CBP is amending § 113.62(a)(1) in this document to add paragraphs (a)(1)(i) and (ii) to correct this inadvertent omission. This amendment is also non-significant as it reinstates the previous regulatory language that existed prior to the USMCA IFR's effective date, with no changes.

Appendix to Part 163

Section 509(a)(1)(A) of the Tariff Act of 1930, as amended by title VI of Public Law 103-182, commonly referred to as the Customs Modernization Act (19 U.S.C. 1509(a)(1)(A)), requires the production of records, within a reasonable time after demand by CBP if such record is required by law or regulation for the entry of the merchandise, whether or not CBP required its presentation at the time of entry. Pursuant to 19 U.S.C. 1509(e), CBP is required to identify and publish a list of the records and entry information that is required to be maintained and produced under subsection (a)(1)(A) of section 509 (19 U.S.C. 1509(a)(1)(A)). This list is commonly referred to as “the (a)(1)(A) list.”

As described in the USMCA IFR's preamble, CBP is amending section IV of Appendix to 19 CFR part 163 under the § 10.307 listing in the (a)(1)(A) list to clarify that the United States-Canada Free Trade Agreement (CFTA) provisions continue to be suspended while USMCA remains in effect. However, due to an inaccurate amendatory instruction, this regulatory amendment could not be incorporated into the CFR when the USMCA IFR became effective. Thus, CBP is correcting the amendatory instruction in this document to accurately reflect the correction to the daggered footnote following the entry for § 10.307, as intended in the USMCA IFR.

III. Administrative Procedure Act

Under the Administrative Procedure Act (APA) (5 U.S.C. 553(b)), agencies generally are required to publish a notice of proposed rulemaking in the Federal Register that solicits public comment on the proposed regulatory amendments, consider public comments when deciding on the content of the final amendments, and publish the final amendments at least 30 days prior to their effective date. The APA, however, provides exceptions from the prior notice and the public comment and the delayed effective date requirements, when an agency for good cause finds that such procedures are “impracticable, unnecessary, or contrary to the public interest.” See 5 U.S.C. 553(b)(B), (d)(3).

For this action, CBP finds that good cause exists to forgo Section 553's notice and comment requirement because the amendments to the regulations are merely technical, correcting inaccurate amendatory instructions, correcting inadvertent omissions, and adding a minor, non-substantive conforming amendment implementing a technical correction to the CBTPA, as set forth in the Consolidated Appropriations Act, 2021. For the same reasons, CBP finds that good cause exists to forgo Section 553's 30-day delayed effective date requirement.

Signing Authority

In accordance with Treasury Order 100-20, the Secretary of the Treasury delegated to the Secretary of Homeland Security the authority related to the customs revenue functions vested in the Secretary of the Treasury as set forth in 6 U.S.C. 212 and 215, subject to certain exceptions. This regulation is being issued in accordance with DHS Directive 07010.3, Revision 03.2, which delegates to the Commissioner of CBP the authority to prescribe and approve/sign regulations related to customs revenue functions.

Rodney S. Scott, Commissioner, having reviewed and approved this document, has delegated the authority to electronically sign the document to the Director (or Acting Director, if applicable) of the Regulations and Disclosure Law Division of CBP, for purposes of publication in the Federal Register.

List of Subjects

19 CFR Part 10

Bonds, Exports, Imports, Reporting and recordkeeping requirements, Trade agreements.

19 CFR Part 113

Common carriers, Exports, Freight, Laboratories, Reporting and recordkeeping requirements, Surety bonds.

19 CFR Part 163

Administrative practice and procedure, Exports, Imports, Penalties, Reporting and recordkeeping requirements.

Amendments to the CBP Regulations

For the reasons stated above, amend parts 10, 113, and 163 of title 19 of the Code of Federal Regulations (19 CFR parts 10, 113, and 163) as set forth below.

PART 10—ARTICLES CONDITIONALLY FREE, SUBJECT TO A REDUCED RATE, ETC.

1. The general and specific authority citations for part 10 continue to read as follows:

Authority: 19 U.S.C. 66, 1202 (General Note 3(i), Harmonized Tariff Schedule of the United States (HTSUS)), 1321, 1481, 1484, 1498, 1508, 1623, 1624, 4513.

* * * * *

Sections 10.221 through 10.228 and §§ 10.231 through 10.237 also issued under 19 U.S.C. 2701 et seq.

* * * * *

§ 10.224 [Amended]

2. Amend § 10.224(b) by removing the word “NAFTA” from the table and add, in its place, the word “USMCA”.

3. In § 10.237 add new paragraphs (b)(2), (3), and (4) to read as follows:

§ 10.237 Verification and justification of claim for preferential tariff treatment.

* * * * *

(b) * * *

(2) Must establish and implement internal controls which provide for the periodic review of the accuracy of the Certificate of Origin or other records referred to in paragraph (b)(1) of this section;

(3) Must have shipping papers that show how the article moved from the CBTPA beneficiary country to the United States. If the imported article was shipped through a country other than a CBTPA beneficiary country and the invoices and other documents from the CBTPA beneficiary country do not show the United States as the final destination, the importer also must have documentation that demonstrates that the conditions set forth in § 10.233(d)(3)(i) through (iii) were met; and

(4) Must be prepared to explain, upon request from CBP, how the records and internal controls referred to in paragraphs (b)(1) through (3) of this section justify the importer's claim for preferential tariff treatment.

PART 113—CBP BONDS

4. The general authority citation for part 113 continues to read as follows:

Authority: 19 U.S.C. 66, 1623, 1624.

* * * * *

5. In § 113.62 add new paragraphs (a)(1)(i) and (ii) to read as follows:

§ 113.62 Basic importation and entry bond conditions.

* * * * *

(a) * * *

(1) * * *

(i) Deposit, within the time prescribed by law or regulation, any duties, taxes, and charges imposed, or estimated to be due, at the time of release or withdrawal; and

(ii) Pay, as demanded by CBP, all additional duties, taxes, and charges subsequently found due, legally fixed, and imposed on any entry secured by this bond.

* * * * *

PART 163—RECORDKEEPING

6. The general authority citation for part 163 continues to read as follows:

Authority: 5 U.S.C. 301; 19 U.S.C. 66, 1484, 1508, 1509, 1510, 1624.

* * * * *

7. Amend Appendix to part 163 by revising the daggered footnote following the entry for § 10.307 to read as follows:

Appendix to Part 163—Interim (a)(1)(A) List

* * * * *

IV. * * *

† [§ 10.307 Documents, etc. required for entries under CFTA Certificate of origin of CF 353]

[† CFTA provisions are suspended while USMCA remains in effect. See part 182.]

* * * * *

Robert F. Altneu,
Director, Regulations & Disclosure Law Division, Regulations & Rulings, Office of Trade, U.S. Customs and Border Protection.

[FR Doc. 2025-17122 Filed 9-5-25; 8:45 am]

BILLING CODE 9111-14-P